DEPARTMENT OF COMMERCE

International Trade Administration

[A-533-840]

Certain Frozen Warmwater Shrimp From India: Final Results of Antidumping Duty Administrative Review; 2013-2014

AGENCY: Enforcement and Compliance, International Trade Administration, Department of Commerce.

SUMMARY: On March 6, 2015, the Department of Commerce (the Department) published the preliminary results of the administrative review of the antidumping duty order on certain frozen warmwater shrimp from India.¹ The period of review (POR) is February 1, 2013, through January 31, 2014. For the final results, we continue to find that all companies involved in this review sold subject merchandise at less than normal value.

¹ See Certain Frozen Warmwater Shrimp From India; Preliminary Results of Antidumping Duty Administrative Review; 2013-2014, 80 FR 12147 (March 6, 2015) (Preliminary Results).

DATES: Effective Date: September 10, 2015.

FOR FURTHER INFORMATION CONTACT: Blaine Wiltse or Elizabeth Eastwood, AD/CVD Operations, Office II, Enforcement and Compliance, International Trade Administration, U.S. Department of Commerce, 14th Street and Constitution Avenue NW., Washington, DC 20230; telephone: (202) 482-6345 or (202) 482-3874, respectively.

SUPPLEMENTARY INFORMATION:

Background

This review covers 211 producers/exporters. The respondents which the Department selected for individual examination are Devi Fisheries Limited (Devi Fisheries) and Falcon Marine Exports Limited/K.R. Enterprises (Falcon). The respondents which were not selected for individual examination are listed in the “Final Results of the Review” section of this notice.

On March 6, 2015, the Department published the Preliminary Results. In April 2015, we received case briefs from the American Shrimp Processors Association, and Devi Fisheries, Falcon, and 13 additional producers/exporters of the subject merchandise (collectively, the respondents); we also received rebuttal briefs from the above-mentioned interested parties and the Ad Hoc Shrimp Trade Action Committee.

On June 23, 2015, we postponed the final results by 60 days, until September 2, 2015.²

² See memorandum to Gary Taverman, Associate Deputy Assistant Secretary for Antidumping and Countervailing Duty Operations, from Stephen Banea, International Trade Compliance Analyst, Office II, Antidumping and Countervailing Duty Operations, entitled “Certain Frozen Warmwater Shrimp from India; 2013-2014 Administrative Review: Extension of Deadline for Final Results,” dated June 23, 2015.

Scope of the Order

The merchandise subject to the order is certain frozen warmwater shrimp.³ The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and customs purposes, the written product description remains dispositive.

³ For a complete description of the Scope of the Order, see the memorandum from Gary Taverman, Associate Deputy Assistant Secretary for Antidumping and Countervailing Duty Operations, to Paul Piquado, Assistant Secretary for Enforcement and Compliance, entitled, “Issues and Decision Memorandum for the Final Results of the Antidumping Duty Administrative Review of Certain Frozen Warmwater Shrimp from India,” (dated concurrently with these results) (Issues and Decision Memorandum), which is hereby adopted by this notice.

Analysis of Comments Received

All issues raised in the case briefs by parties are listed in the Appendix to this notice and addressed in the Issues and Decision Memorandum. Parties can find a complete discussion of these issues and the corresponding recommendations in this public memorandum, which is on file electronically via Enforcement and Compliance's Antidumping and Countervailing Duty Centralized Electronic Service System (ACCESS). ACCESS is available to registered users at http://access.trade.gov; the Issues and Decision Memorandum is also available to all parties in the Central Records Unit, Room B8024, of the main Department of Commerce building. In addition, a complete version of the Issues and Decision Memorandum can be accessed directly at http://enforcement.trade.gov/frn/index.html. The signed Issues and Decision Memorandum and the electronic version of the Issues and Decision Memorandum are identical in content.

Changes Since the Preliminary Results

Based on a review of the record and comments receive from interested parties regarding our Preliminary Results, we made no changes to Devi Fisheries' or Falcon's margin calculations.

Period of Review

The POR is February 1, 2013, through January 31, 2014.

Final Results of the Review

We are assigning the following dumping margins to the firms listed below as follows:

Manufacturer/exporter | Percent margin
Devi Fisheries Limited/Satya Seafoods Private Limited/Usha Seafoods | 3.28
Falcon Marine Exports Limited/K.R. Enterprises | 2.63

Review-Specific Average Rate Applicable to the Following Companies: ⁴

⁴ This rate is based on the simple average of the margins calculated for those companies selected for individual review. Because we cannot apply our normal methodology of calculating a weighted-average margin due to requests to protect business proprietary information, we find this rate to be the best proxy of the actual weighted-average margin determined for the mandatory respondents. See Ball Bearings and Parts Thereof From France, et al.: Final Results of Antidumping Duty Administrative Reviews, Final Results of Changed-Circumstances Review, and Revocation of an Order in Part, 75 FR 53661, 53663 (September 1, 2010); see also the memorandum from Blaine Wiltse, Senior International Trade Compliance Analyst, to the file, entitled, “Calculation of the Review-Specific Average Rate in the 2013-2014 Administrative Review of Certain Frozen Warmwater Shrimp from India,” dated March 6, 2015.

Manufacturer/exporter | Percent margin
Abad Fisheries | 2.96
Accelerated Freeze-Drying Co | 2.96
Adilakshmi Enterprises | 2.96
Akshay Food Impex Private Limited | 2.96
Allana Frozen Foods Pvt. Ltd | 2.96
Allanasons Ltd | 2.96
AMI Enterprises | 2.96
Amulya Seafoods | 2.96
Anand Aqua Exports | 2.96
Ananda Aqua Applications/Ananda Aqua Exports (P) Limited/Ananda Foods | 2.96
Ananda Enterprises (India) Private Limited | 2.96
Andaman Sea Foods Pvt. Ltd | 2.96
Angelique Intl | 2.96
Anjaneya Seafoods | 2.96
Apex Frozen Foods Private Limited | 2.96
Arvi Import & Export | 2.96
Asvini Exports | 2.96
Asvini Fisheries Private Limited | 2.96
Avanti Feeds Limited | 2.96
Ayshwarya Seafood Private Limited | 2.96
Baby Marine Exports | 2.96
Baby Marine International | 2.96
Baby Marine Sarass | 2.96
Balasore Marine Exports Private Limited | 2.96
Bhatsons Aquatic Products | 2.96
Bhavani Seafoods | 2.96
Bijaya Marine Products | 2.96
Blue Fin Frozen Foods Pvt. Ltd | 2.96
Blue Water Foods & Exports P. Ltd | 2.96
Bluefin Enterprises | 2.96
Bluepark Seafoods Private Ltd | 2.96
BMR Exports | 2.96
Britto Exports | 2.96
C P Aquaculture (India) Ltd | 2.96
Calcutta Seafoods Pvt. Ltd | 2.96
Canaan Marine Products | 2.96
Capithan Exporting Co | 2.96
Castlerock Fisheries Ltd | 2.96
Chemmeens (Regd) | 2.96
Cherukattu Industries (Marine Div.) | 2.96
Choice Canning Company | 2.96
Choice Trading Corporation Private Limited | 2.96
Coastal Aqua | 2.96
Coastal Corporation Ltd | 2.96
Cochin Frozen Food Exports Pvt. Ltd | 2.96
Coreline Exports | 2.96
Corlim Marine Exports Pvt. Ltd | 2.96
D2 D Logistics Private Limited | 2.96
Damco India Private Limited | 2.96
Delsea Exports Pvt. Ltd | 2.96
Devi Marine Food Exports Private Ltd | 2.96
Kader Exports Private Limited/
Kader Investment and Trading Company Private Limited/
Liberty Frozen Foods Pvt. Ltd/Liberty Oil Mills Ltd/
Premier Marine Products Private Limited ⁵/
Universal Cold Storage Private Limited
Devi Sea Foods Limited ⁶ | 2.96
Diamond Seafood Exports/Edhayam Frozen Foods Pvt. Ltd | 2.96
Kadalkanny Frozen Foods/Theva & Company
Digha Seafood Exports | 2.96
Esmario Export Enterprises | 2.96
Exporter Coreline Exports | 2.96
Five Star Marine Exports Private Limited | 2.96
Forstar Frozen Foods Pvt. Ltd | 2.96
Frontline Exports Pvt. Ltd | 2.96
G A Randerian Ltd | 2.96
Gadre Marine Exports | 2.96
Galaxy Maritech Exports P. Ltd | 2.96
Gayatri Seafoods | 2.96
Geo Aquatic Products (P) Ltd | 2.96
Geo Seafoods | 2.96
Goodwill Enterprises | 2.96
Grandtrust Overseas (P) Ltd | 2.96
GVR Exports Pvt. Ltd | 2.96
Haripriya Marine Export Pvt. Ltd | 2.96
Harmony Spices Pvt. Ltd | 2.96
HIC ABF Special Foods Pvt. Ltd | 2.96
Hindustan Lever, Ltd | 2.96
Hiravata Ice & Cold Storage | 2.96
Hiravati Exports Pvt. Ltd | 2.96
Hiravati International P. Ltd (located at APM—Mafco Yard, Sector—18, Vashi, Navi, Mumbai—400 705, India) | 2.96
Hiravati International Pvt. Ltd (located at Jawar Naka, Porbandar, Gujarat, 360 575, India) | 2.96
IFB Agro Industries Ltd | 2.96
Indian Aquatic Products | 2.96
Indo Aquatics | 2.96
Innovative Foods Limited | 2.96
International Freezefish Exports | 2.96
Interseas | 2.96
ITC Limited, International Business | 2.96
ITC Ltd | 2.96
Jagadeesh Marine Exports | 2.96
Jaya Satya Marine Exports | 2.96
Jaya Satya Marine Exports Pvt. Ltd | 2.96
Jayalakshmi Sea Foods Private Limited | 2.96
Jinny Marine Traders | 2.96
Jiya Packagings | 2.96
K R M Marine Exports Ltd | 2.96
K V Marine Exports | 2.96
Kalyan Aqua & Marine Exports India Pvt. Ltd | 2.96
Kalyanee Marine | 2.96
Kanch Ghar | 2.96
Kay Kay Exports | 2.96
Kings Marine Products | 2.96
KNC Agro Pvt. Ltd | 2.96
Koluthara Exports Ltd | 2.96
Konark Aquatics & Exports Pvt. Ltd | 2.96
Landauer Ltd | 2.96
Libran Cold Storages (P) Ltd | 2.96
Lighthouse Trade Links Pvt. Ltd | 2.96
Magnum Estates Limited | 2.96
Magnum Export | 2.96
Magnum Sea Foods Limited | 2.96
Malabar Arabian Fisheries | 2.96
Malnad Exports Pvt. Ltd | 2.96
Mangala Marine Exim India Pvt. Ltd | 2.96
Mangala Sea Products | 2.96
Mangala Seafoods | 2.96
Meenaxi Fisheries Pvt. Ltd | 2.96
MSC Marine Exporters | 2.96
MSRDR Exports | 2.96
Munnangi Sea Foods (Pvt) Ltd | 2.96
MTR Foods | 2.96
N.C. John & Sons (P) Ltd | 2.96
Naga Hanuman Fish Packers | 2.96
Naik Frozen Foods Private Limited | 2.96
Naik Seafoods Ltd | 2.96
Navayuga Exports | 2.96
Nekkanti Sea Foods Limited | 2.96
Nezami Rekha Sea Food Private Limited | 2.96
NGR Aqua International | 2.96
Nila Sea Foods Pvt. Ltd | 2.96
Nine Up Frozen Foods | 2.96
Nutrient Marine Foods Limited | 2.96
Overseas Marine Export | 2.96
Paragon Sea Foods Pvt. Ltd | 2.96
Parayil Food Products Pvt. Ltd | 2.96
Penver Products Pvt. Ltd | 2.96
Pesca Marine Products Pvt. Ltd | 2.96
Pijikay International Exports P Ltd | 2.96
Pisces Seafood International | 2.96
Premier Exports International | 2.96
Premier Marine Foods | 2.96
Premier Seafoods Exim (P) Ltd | 2.96
R V R Marine Products Limited | 2.96
Raa Systems Pvt. Ltd | 2.96
Raju Exports | 2.96
Ram's Assorted Cold Storage Ltd | 2.96
Raunaq Ice & Cold Storage | 2.96
Raysons Aquatics Pvt. Ltd | 2.96
Razban Seafoods Ltd | 2.96
RBT Exports | 2.96
RDR Exports | 2.96
Riviera Exports Pvt. Ltd | 2.96
Rohi Marine Private Ltd | 2.96
S & S Seafoods | 2.96
S. A. Exports | 2.96
S Chanchala Combines | 2.96
Safa Enterprises | 2.96
Sagar Foods | 2.96
Sagar Grandhi Exports Private Limited | 2.96
Sagar Samrat Seafoods | 2.96
Sagarvihar Fisheries Pvt. Ltd | 2.96
Sai Marine Exports Pvt. Ltd | 2.96
Sai Seafoods | 2.96
Sanchita Marine Products Private Limited | 2.96
Sandhya Aqua Exports | 2.96
Sandhya Aqua Exports Pvt. Ltd | 2.96
Sandhya Marines Limited | 2.96
Santhi Fisheries & Exports Ltd | 2.96
Sarveshwari Exports | 2.96
Sawant Food Products | 2.96
Sea Foods Private Limited | 2.96
Seagold Overseas Pvt. Ltd | 2.96
Selvam Exports Private Limited | 2.96
Sharat Industries Ltd | 2.96
Shimpo Exports Pvt. Ltd | 2.96
Shippers Exports | 2.96
Shiva Frozen Food Exp. Pvt. Ltd | 2.96
Shree Datt Aquaculture Farms Pvt. Ltd | 2.96
Shroff Processed Food & Cold Storage P Ltd | 2.96
Silver Seafood | 2.96
Sita Marine Exports | 2.96
Sowmya Agri Marine Exports | 2.96
Sprint Exports Pvt. Ltd | 2.96
Sri Chandrakantha Marine Exports | 2.96
Sri Sakkthi Cold Storage | 2.96
Sri Sakthi Marine Products P Ltd | 2.96
Sri Satya Marine Exports | 2.96
Sri Venkata Padmavathi Marine Foods Pvt. Ltd | 2.96
Srikanth International | 2.96
SSF Ltd | 2.96
Star Agro Marine Exports Private Limited | 2.96
Star Organic Foods Incorporated | 2.96
Sun-Bio Technology Ltd | 2.96
Supran Exim Private Limited | 2.96
Suryamitra Exim Pvt. Ltd | 2.96
Suvarna Rekha Exports Private Limited | 2.96
Suvarna Rekha Marines P Ltd | 2.96
TBR Exports Pvt Ltd | 2.96
Teekay Marine P. Ltd | 2.96
Tejaswani Enterprises | 2.96
The Waterbase Ltd | 2.96
Triveni Fisheries P Ltd | 2.96
Uniloids Biosciences Private Limited | 2.96
Uniroyal Marine Exports Ltd | 2.96
Unitriveni Overseas | 2.96
V.S Exim Pvt Ltd | 2.96
Vasista Marine | 2.96
Veejay Impex | 2.96
Victoria Marine & Agro Exports Ltd | 2.96
Vinner Marine | 2.96
Vishal Exports | 2.96
Wellcome Fisheries Limited | 2.96
West Coast Frozen Foods Private Limited | 2.96
Z A Sea Foods Pvt. Ltd | 2.96

⁵ On December 2, 2014, Premier Marine Products Private Limited was found to be the successor-in-interest to Premier Marine Products. See Notice of Final Results of Antidumping Duty Changed Circumstances Review: Certain Frozen Warmwater Shrimp from India, 79 FR 71384 (December 2, 2014).

⁶ Shrimp produced and exported by Devi Sea Foods Limited (Devi) was excluded from this order effective February 1, 2009. See Certain Frozen Warmwater Shrimp From India: Final Results of Antidumping Duty Administrative Review, Partial Rescission of Review, and Notice of Revocation of Order in Part, 75 FR 41813, 41814 (July 19, 2010). However, shrimp produced by other Indian producers and exported by Devi remain subject to the order. Thus, this administrative review with respect to Devi covers only shrimp which was produced in India by other companies and exported by Devi.

Assessment Rates

The Department shall determine, and CBP shall assess, antidumping duties on all appropriate entries.

Pursuant to 19 CFR 351.212(b)(1), because Devi Fisheries and Falcon reported the entered value for all of their U.S. sales, we calculated importer-specific ad valorem duty assessment rates based on the ratio of the total amount of antidumping duties calculated for the examined sales to the total entered value of the sales for which entered value was reported. To determine whether the duty assessment rates are de minimis, in accordance with the requirement set forth in 19 CFR 351.106(c)(2), we calculated importer-specific ad valorem ratios based on the entered value.

For the companies which were not selected for individual examination, we used as the assessment rate the cash deposit rate assigned to these exporters, in accordance with our practice.⁷

⁷ See, e.g., Certain Frozen Warmwater Shrimp From India: Final Results of Antidumping Duty Administrative Review, 79 FR 51309 (August 28, 2014).

The Department's “automatic assessment” practice will apply to entries of subject merchandise during the POR produced by Devi Fisheries or Falcon for which these companies did not know that the merchandise was destined for the United States. In such instances, we will instruct CBP to liquidate unreviewed entries at the all-others rate if there is no rate for the intermediate company(ies) involved in the transaction. For a full discussion of this practice, see Antidumping and Countervailing Duty Proceedings: Assessment of Antidumping Duties, 68 FR 23954 (May 6, 2003).

The Department intends to issue assessment instructions to CBP 15 days after the date of publication of these final results of review.

Cash Deposit Requirements

The following cash deposit requirements will be effective for all shipments of subject merchandise entered, or withdrawn from warehouse, for consumption on or after the publication date of the final results of this administrative review, as provided by section 751(a)(2)(C) of the Act: (1) The cash deposit rates for the reviewed companies will be the rates shown above, except if the rate is less than 0.50 percent (de minimis within the meaning of 19 CFR 351.106(c)(1)), the cash deposit will be zero; (2) for previously reviewed or investigated companies not listed above, the cash deposit rate will continue to be the company-specific rate published for the most recent period; (3) if the exporter is not a firm covered in this review, a previous review, or the original less-than-fair-value (LTFV) investigation, but the manufacturer is, the cash deposit rate will be the rate established for the most recent period for the manufacturer of the merchandise; and (4) the cash deposit rate for all other manufacturers or exporters will continue to be 10.17 percent, the all-others rate established in the LTFV investigation.⁸ These deposit requirements, when imposed, shall remain in effect until further notice.

⁸ See Notice of Amended Final Determination of Sales at Less Than Fair Value and Antidumping Duty Order: Certain Frozen Warmwater Shrimp from India, 70 FR 5147, 5148 (Febrary 1, 2005).

Notification to Importers

This notice serves as the only reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Administrative Protective Order

In accordance with 19 CFR 351.305(a)(3), this notice also serves as a reminder to parties subject to administrative protective order (APO) of their responsibility concerning the return or destruction of proprietary information disclosed under the APO, which continues to govern business proprietary information in this segment of the proceeding. Timely written notification of the return or destruction of APO materials or conversion to judicial protective order is hereby requested. Failure to comply with the regulations and terms of an APO is a violation subject to sanction.

We are issuing and publishing this notice in accordance with sections 751(a)(1) and 777(i) of the Act and 19 CFR 351.213(h).

Dated: September 2, 2015.
Paul Piquado,
Assistant Secretary for Enforcement and Compliance.

Appendix—List of Topics Discussed in the Issues and Decision Memorandum

Summary

Background

Scope of the Order

Discussion of the Issues

Comment 1: Legal Authority to Consider an Alternative Comparison Method in an Administrative Review

Comment 2: Withdrawal of the Regulatory Provisions Governing Targeted Dumping in LTFV Investigations

Comment 3: Differential Pricing Analysis and the Administrative Procedures Act

Comment 4: Differential Pricing Analysis: Identification of a Pattern of Prices that Differ Significantly

Comment 5: Differential Pricing Analysis: Whether the Average-to-Average (A-to-A) Method Can Account for Such Differences

Comment 6: Differential Pricing Analysis: The Impact of “Zeroing”

Comment 7: Differential Pricing Analysis: Thresholds in the “Ratio Test”

Comment 8: Other Arguments Related to Differential Pricing Analysis

Comment 9: Whether to Include Certain Costs Incurred by KR Enterprises in Falcon's Reported Cost of Manufacturing

Recommendation

[FR Doc. 2015-22869 Filed 9-9-15; 8:45 am]

BILLING CODE 3510-DS-P